DEPARTMENT OF THE TREASURY

Submission for OMB Review; Comment Request

November 16, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before December 23, 2010 to be assured of consideration.

Internal Revenue Service (IRS)

OMB Number: 1545-0172.

Type of Review: Revision of a currently approved collection.

Title: Depreciation and Amortization (Including Information on Listed Property).

Form: 4562.

Abstract: Taxpayers use Form 4562 to claim a deduction for depreciation and/or amortization; make a section 179 election to expense depreciable assets, and answer questions regarding the use of automobiles and other listed property to substantiate the business use under section 274(d).

Respondents: Private sector: Businesses or other for-profits.

Estimated Total Burden Hours: 1,671,337,275 hours.

OMB Number: 1545-0086.

Type of Review: Revision of a currently approved collection.

Title: U.S. Departing Alien Income Tax Return.

Form: 1040-C.

Abstract: Form 1040-C is used by aliens departing the U.S. to report income received or expected to be received for the entire tax year. The data collected are used to ensure that the departing alien has no outstanding U.S. tax liability.

Respondents: Individuals and households.

Estimated Total Burden Hours: 13,200 hours.

OMB Number: 1545-0245.

Type of Review: Extension without change to a currently approved collection.

Title: Environmental Taxes.

Form: 6627.

Abstract: Form 6627 is used to figure the environmental tax on ozone-depleting chemicals (ODCS), imported products that used ODCs as materials in the manufacture or production of the product, and the floor stocks tax ODCs. Sections 4681 and 4682 impose a tax on ODCs and imported products containing ODCs.

Respondents: Private sector: Businesses or other for-profits.

Estimated Total Burden Hours: 13,084 hours.

OMB Number: 1545-1058.

Type of Review: Revision of a currently approved collection.

Title: Reporting Agent Authorization and Revenue Procedure 2007-38 [RP-134220-08].

Form: 8655.

Abstract: Section 5.05 of Revenue Procedure 2007-38 tells the clients of reporting agents how to monitor the tax deposits agents make for them. Section 5.05 obligates reporting agents to remind their clients regularly of this retained tax obligation. The Service may on occasion seek the notices to monitor reporting agent compliance with the notice rules and to document that clients have been informed of the clients' retained tax obligations.

Respondents: Private sector: Businesses or other for-profits.

Estimated Total Burden Hours: 792,650 hours.

OMB Number: 1545-2059.

Type of Review: Extension without change to a currently approved collection.

Title: TD 9312 (Temp), Deduction for qualified film and television production costs.

Abstract: This document contains temporary regulations relating to deductions for the cost of producing film and television productions under section 181. These temporary regulations reflect changes to the law made by the American Jobs Creation Act of 2004 and the Gulf Opportunity Zone Act of 2005, and affect taxpayers that produce films and television productions within the United States.

Respondents: Private sector: Businesses or other for-profits.

Estimated Total Burden Hours: 1,600 hours.

OMB Number: 1545-2065.

Type of Review: Extension without change to a currently approved collection.

Title: Notice of Qualified Equity Investment for New Markets Credit.

Form: 8874-A.

Abstract: New modernized e-file return for partnerships: Internal Revenue Code Sections 6109 and 6103 code section 45N. Section 45N was added by section 405 of the Tax Relief and Health Care Act of 2006. Form 8874-A provides a means for the qualified mining company to compute and claim the credit.

Respondents: Private sector: Businesses or other for-profits.

Estimated Total Burden Hours: 2,715 hours.

Bureau Clearance Officer: Allan Hopkins, Internal Revenue Service, 1111 Constitution Avenue, NW., Room 6129, Washington, DC 20224; (202) 622-6665.

OMB Reviewer: Shagufta Ahmed, Office of Management and Budget, New Executive Office Building, Room 10235, Washington, DC 20503; (202) 395-7873.

Dawn D. Wolfgang,
Treasury PRA Clearance Officer.

[FR Doc. 2010-29493 Filed 11-22-10; 8:45 am]

BILLING CODE 4830-01-P